DEPARTMENT OF ENERGY

Federal Energy Regulatory Commission

[Project No. 459-249]

Ameren/UE; Notice of Application for Amendment of License and Soliciting Comments, Motions To Intervene, and Protests

February 17, 2009.

a. Type of Application: Non-project use of project lands and waters.

b. Project Number: 459-249.

c. Date Filed: December 22, 2008.

d. Applicant: Ameren/UE.

e. Name of Project: Osage Hydroelectric Project.

f. Location: The project is located in Benton, Camden, Miller, and Morgan Counties, Missouri. The proposed use would be located at the Paradise Tropical Restaurant, Inc., near mile marker 24 of the main channel of the Lake of the Ozarks in Camden County, Missouri.

g. Filed Pursuant to: Federal Power Act, 16 U.S.C. 791(a) 825(r) and 799 and 801.

h. Applicant Contact: Mr. Jeff Green, Shoreline Supervisor, Ameren/UE, P.O. Box 993, Lake Ozark, MO 65049, (573) 365-9214.

i. FERC Contact: Any questions on this notice should be addressed to Christopher Yeakel at (202) 502-8132, or e-mail address: christopher.yeakel@ferc.gov.

j. Deadline for filing comments and/or motions: March 17, 2009.

k. Description of Request: Ameren/UE requests approval to permit Tucker Investments, LLC, to modify an existing multi-slip boat dock and construct a breakwater at the Paradise Tropical Restaurant, Inc., near mile marker 24 of the main channel of the Lake of the Ozarks. The existing dock has 13 double slips. The modified dock would have a total of 18 double boat slips; twelve slips would be 28 feet long and 24 feet wide and six would be 28 feet long and 28 feet wide. The docks would be available to patrons of Paradise Tropical Restaurant. The breakwater would be a floating-concrete design 320 feet long and 12 feet wide, and would have seventeen navigation lights. The existing fuel-dispensing facilities would remain. In developing the application, the licensee consulted with the Missouri State Historic Preservation Officer, U.S. Fish and Wildlife Service, the Missouri Department of Conservation, and the Missouri State Water Patrol.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (p-459) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-459-249). All documents (original and eight copies) should be filed with: Kimberly D. Bose, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the“e-Filing” link.

Kimberly D. Bose,
Secretary.

[FR Doc. E9-3856 Filed 2-23-09; 8:45 am]

BILLING CODE 6717-01-P